DEPARTMENT OF THE INTERIOR

Bureau of Land Management

[CACA-052537, LLCAD05000, L51010000.LVRWB11B4520.FX0000]

Notice of Availability of the Final Environmental Impact Statement for the Alta East Wind Project, Kern County, CA, and Proposed Land Use Plan Amendment

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Proposed California Desert Conservation Area (CDCA) Plan Amendment/Final Environmental Impact Statement (EIS) for the Alta East Wind Project (Project), and by this notice is announcing its availability.

DATES: BLM planning regulations state that any person who meets the conditions set forth in the regulations may protest the BLM's proposed plan amendment. A person who meets those conditions and wishes to file a protest must file the protest within 30 days of the date that the Environmental Protection Agency publishes its notice of availability for the Project's final EIS in the Federal Register.

ADDRESSES: Copies of the Alta East proposed plan amendment/final EIS have been sent to affected Federal, State, and local government agencies and to other stakeholders. Copies of the proposed plan amendment/final EIS are also available for public inspection at the Ridgecrest Field Office, 300 S. Richmond Road, Ridgecrest, CA 93555, and the California Desert District Office, 22835 Calle San Juan de Los Lagos, Moreno Valley, CA 92553-9046. Interested persons may also review the proposed plan amendment/final EIS at http://www.blm.gov/ca/st/en/fo/cdd.html. All protests must be in writing and mailed to one of the following addresses:

Regular Mail:BLM Director (210), Attention: Brenda Williams, P.O. Box 71383, Washington, DC 20024-1383.

Overnight Mail:BLM Director (210), Attention: Brenda Williams, 20 M Street SE., Room 2134LM, Washington, DC 20003.

FOR FURTHER INFORMATION CONTACT: Jeffery Childers, telephone 951-697-5308; address BLM California Desert District Office, 22835 Calle San Juan de Los Lagos, Moreno Valley, CA 92553-9046; email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Alta Windpower Development, LLC (AWD) has requested a right-of-way (ROW) authorization to construct, operate, maintain, and decommission the proposed 318-megawatt, wind-energy Project. The Project would be located on the north and south sides of State Route 58 in southeastern Kern County, California. The proposed project area is 3 miles northwest of the town of Mojave and 11 miles east of the city of Tehachapi. The project would include wind turbines, access roads, energy collection lines, and other ancillary facilities on 2,592 acres, of which 2,024 acres are on public land under the jurisdiction of the BLM and 568 acres are on private land under the jurisdiction of Kern County. The Project, if approved, would require approximately 418 acres of the private land portion of the Project site to be re-zoned to be consistent with the Kern County Zoning Ordinance Wind Energy Combining District.

The BLM's purpose and need for the Project is to respond to AWD's application for a ROW grant to construct, operate, maintain, and decommission a wind-energy facility on public lands in compliance with FLPMA, BLM ROW regulations, and other applicable requirements. The BLM will decide whether to grant, grant with modification, or deny a ROW on public lands to AWD for the proposed Project. The BLM is proposing to amend the CDCA Plan by designating the project area as either available or unavailable for wind-energy projects. The CDCA Plan (1980, as amended), while recognizing the potential compatibility of wind-energy generation facilities with other uses on public lands, requires that all sites proposed for power generation or transmission not already identified in the plan be considered through the plan amendment process. In order for the BLM to grant a ROW for this Project, the CDCA Plan would need to be amended.

In addition to the proposed action (106 turbines) and a no action alternative, the BLM is analyzing an alternative layout configuration and two reduced footprint (97 and 87 turbines) alternatives. The proposed plan amendment/final EIS also analyzes two “no project” alternatives that reject the Project but amend the CDCA Plan to find the project area either (1) Suitable for future wind energy generation projects; or (2) Unsuitable for future wind energy generation projects. The BLM has selected Alternative C (97 turbines) as the preferred alternative in the proposed plan amendment/final EIS.

The proposed plan amendment/final EIS evaluates the potential impacts of the Project and the cumulative effects on air quality and greenhouse gas emissions, biological resources including Golden Eagles and California Condors, special status species, cultural resources, geology and soils, hazards and hazardous materials, hydrology and water quality, land use, noise, recreation, traffic, visual resources, lands with wilderness characteristics, and areas with high potential for renewable energy development.

A Notice of Availability of the draft proposed plan amendment/EIS/environmental impact report (EIR) for the Project was published on June 29, 2012 followed by a BLM/Kern County joint public meeting on August 1, 2012 in Mojave, California. A Notice of Intent to prepare a plan amendment/EIS/EIR for the Project was published in the Federal Register on July 15, 2011 (76 FR 41817) followed by a joint public scoping meeting with Kern County in Mojave, California, on August 4, 2011. The County completed its California Environmental Quality Act (CEQA) review process and has already certified its EIR for the Project. For additional information about or copies of the Project's certified EIR, interested members of the public should contact Kern County. As a result of the County's certification of the EIR, the BLM is releasing its final EIS document as a NEPA document; it is no longer a joint NEPA/CEQA document.

Comments on the draft plan amendment/EIS/EIR received from the public and internal BLM review were considered and incorporated as appropriate into the proposed plan amendment/final EIS. Public comments resulted in the addition of clarifying text, but did not significantly change proposed actions or land use plan decisions analyzed here.

Instructions for filing a protest with the BLM Director regarding the proposed plan amendment/final EIS may be found in the “Dear Reader” Letter of the proposed plan amendment/final EIS and at 43 CFR 1610.5-2. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct faxed or emailed protests to the attention of the BLM protest coordinator at 202-245-0028 or bhudgens@blm.gov.

All protests must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2.

Thomas Pogacnik,
Deputy State Director, California.

[FR Doc. 2013-03695 Filed 2-15-13; 8:45 am]

BILLING CODE 4310-40-P